FEDERAL COMMUNICATIONS COMMISSION

47 CFR Part 27

[WT Docket Nos. 03-66, 03-67, 02-68, IB Docket No. 02-364, ET Docket No. 00-258; FCC 08-83]

Facilitating the Provision of Fixed and Mobile Broadband Access, Educational and Other Advanced Services in the 2150-2162 and 2500-2690 MHz Bands; Reviewing of the Spectrum Sharing Plan Among Non-Geostationary Satellite Orbit Mobile Satellite Service Systems in the 1.6/2.4 GHz Bands

AGENCY: Federal Communications Commission.

ACTION: Final rule; announcement of effective date.

SUMMARY: On September 8, 2008, the Office of Management and Budget (OMB) approved the information collection requirements contained in § 27.1221(f) pursuant to OMB Control No. 3060-1094. The BRS/EBS Fourth Memorandum Opinion and Order, released on March 20, 2008 (FCC 08-83) and published in the Federal Register on May 8, 2008, 73 FR 26032, stated that the revision to 47 CFR 27.1221(f) will be effective upon OMB approval. This document announces the effective date of that published rule. Accordingly, the information collection requirements contained in that rule became effective on September 8, 2008.

DATES: The revision to § 27.1221(f) published at 73 FR 26032, May 8, 2008, will become effective on September 19, 2008.

FOR FURTHER INFORMATION CONTACT: John Schauble, Deputy Chief, Broadband Division, Wireless Telecommunications Bureau, Federal Communications Commission at (202) 418-0797.

SUPPLEMENTARY INFORMATION: In the BRS/EBS Fourth Memorandum Opinion and Order, released on March 20, 2008 (FCC 08-83) and published in the Federal Register on May 8, 2008, 73 FR 26032, the Commission revised its rules and policies governing the licensing of the Educational Broadband Service (EBS) and the Broadband Radio Service (BRS) in the 2495-2690 MHz (2.5 GHz) band). The Commission required licensees to provide the geographic coordinates, the height above ground level of the center of radiation for each transmit and receive antenna, and the date transmissions commenced for each of the base stations in its geographic service area (GSA) within 30 days of receipt of a request from a co-channel, neighboring BRS/EBS licensee. This information will be used to prevent harmful interference to licensees' BRS/EBS operations. This interference protection requirement is a revision to the previously approved information collection OMB 3060-1094, and implements § 27.1221(f) of the Commission's rules as published in the Federal Register on May 8, 2008.

Federal Communications Commission.
Marlene H. Dortch,
Secretary.

[FR Doc. E8-21997 Filed 9-18-08; 8:45 am]

BILLING CODE 6712-01-P